DEPARTMENT OF AGRICULTURE

Foreign Agricultural Service

Special Agricultural Safeguard Measures Pursuant to the Uruguay Round Agreements Act

AGENCY: Foreign Agricultural Service, USDA.

ACTION: Notification of invocation of special agricultural safeguard duty on imports of butter and fresh or sour cream containing over 45 percent by weight of butterfat.

SUMMARY: After reviewing the volume of butter imports (including fresh or sour cream containing over 45 percent by weight of butterfat), the Administrator of the Foreign Agricultural Service has determined that the yearly special safeguard trigger level has been met and a special safeguard duty on certain imports of butter and fresh or sour cream will be imposed effective from the date of this notification through December 31, 2015. This additional duty, as described in subheadings 9904.04.20 and 9904.04.21 of the Harmonized Tariff Schedule of the United States (HTS), will be applicable to butter and fresh or sour cream imported under HTS subheadings 0401.50.75, 0403.90.78, and 0405.10.20.

DATES: Effective October 5, 2015 through December 31, 2015.

FOR FURTHER INFORMATION CONTACT: Ron Lord, Import Policies and Export Reporting Division, Stop 1021, Foreign Agricultural Service, U.S. Department of Agriculture, 1400 Independence Avenue SW., Washington, DC 20250-1022, or telephone (202) 720-6939.

SUPPLEMENTARY INFORMATION: U.S. Notes 1 and 2 to Subchapter IV, Chapter 99, of the Harmonized Tariff Schedule of the United States (HTS) contain safeguard measures established pursuant to Article 5 of the World Trade Organization (WTO) Agreement on Agriculture, as approved pursuant to Section 101 of the Uruguay Round Agreements Act (Pub. L. 103-465). These safeguard measures include the imposition of additional duties based upon the volume of butter and fresh or sour cream imports into the United States. Subheadings 9904.04.20 and 9904.04.21 of the HTS provide for the imposition of additional safeguard duties for butter and fresh or sour cream upon notification in the Federal Register by the Secretary of Agriculture or the Secretary's delegee that a specific volume of imports has been exceeded. The 2015 trigger level for butter and fresh or sour cream is 9,414,976 kilograms (80 FR 36962, June 29, 2015). Specifically, HTS subheadings 9904.04.20 and 9904.04.21 provide for an additional duty of 54.9 cents per kilogram on imports entered under HTS subheadings 0401.50.75 and 0403.90.78, and an additional duty of 51.4 cents per kilogram on imports entered under HTS subheading 0405.10.20.

Section 405(a) of the Uruguay Round Agreements Act requires, among other things, that the President shall determine and cause to be published in the Federal Register the list of special safeguard agricultural goods and the applicable trigger prices and, on an annual basis, quantity trigger levels. Section 405(b) of that Act provides, in relevant part, that if the President determines with respect to a special safeguard agricultural good that it is appropriate to impose the volume-based safeguard, then the President shall determine the amount of the duty to be imposed, the period such duty shall be in effect, and any other terms and conditions applicable to the duty.

Further to the application of such special agricultural safeguard duties, the President proclaimed on December 23, 1994 (Presidential Proclamation No. 6763) the provisions of U.S. Notes 1 and 2 to Subchapter IV, Chapter 99, of the HTS as well as the automatically applicable safeguard duties set forth in such subchapter upon satisfaction of the requisite conditions. Such U.S. Notes 1 and 2 set forth the other terms and conditions for application of any such duty.

As also provided in Presidential Proclamation 6763, the President delegated to the Secretary of Agriculture the authority to make the determinations and effect the publications described in section 405(a) of the Uruguay Round Agreements Act. The Secretary of Agriculture has further delegated this authority to the Under Secretary for Farm and Foreign Agricultural Services (7 CFR 2.16(a)(3)(x1ii)), who has in turn further delegated the authority to determine the quantity trigger levels to the Administrator of the Foreign Agricultural Service (7 CFR 2.43(a)(42)). The Administrator determined that the 2015 trigger level for butter and fresh or sour cream is 9,414,976 kilograms (80 FR 36962, June 29, 2015).

Notice

The Administrator has determined that the amount of butter and fresh or sour cream imported during 2015 has exceeded the trigger level of 9,414,976 kilograms. In accordance with U.S. Notes 1 and 2, Subchapter IV, Chapter 99 of the HTS and HTS subheadings 9904.04.20 and 9904.04.21, an additional duty of 54.9 cents per kilogram shall apply to HTS subheadings 0401.50.75 and 0403.90.78, and an additional duty of 51.4 cents per kilogram shall apply to HTS subheading 0405.10.20, from the date of publication of this notice through December 31, 2015.

As provided in U.S. Note 1, goods of Canada, Mexico, Jordan, Singapore, Chile, Australia, Morocco, El Salvador, Honduras, Nicaragua, Guatemala, Bahrain, Dominican Republic, Costa Rica, Peru, Oman, Korea, Colombia, and Panama imported into the United States are not subject to such duty. As provided in U.S. Note 2, this duty shall not apply to any goods en route on the basis of a contract settled before the date of publication of this notice.

Issued at Washington, DC, this 25th day of September 2015.
Philip C. Karsting,
Administrator, Foreign Agricultural Services, U.S. Department of Agriculture.

[FR Doc. 2015-25235 Filed 10-2-15; 8:45 am]

BILLING CODE 3410-10-P